DEPARTMENT OF ENERGY

Federal Energy Regulatory Commission

Combined Notice of Filings #2

June 13, 2005.

Take notice that the Commission received the following electric rate filings:

Docket Numbers: ER05-1021-001.

Applicants: Pacific Gas & Electric Company.

Description: Pacific Gas and Electric Company submits an errata to its May 25, 2005 filing in Docket No. ER05-1021-000 by submitting correct versions of a Generator Special Facilities Agreement and a Generator Interconnection Agreement between PG&E and the City and County of San Francisco PUC.

Filed Date: 06/03/2005.

Accession Number: 20050610-0001.

Comment Date: 5 p.m. Eastern Time on Friday, June 24, 2005.

Docket Numbers: ER05-391-002.

Applicants: Progress Ventures, Inc.

Description: Progress Ventures, Inc.'s submits a refund report in compliance with FERC's 5/23/05 letter order in Docket Nos. ER05-391-000 and 001.

Filed Date: 06/03/2005.

Accession Number: 20050609-0326.

Comment Date: 5 p.m. Eastern Time on Friday, June 24, 2005.

Docket Numbers: ER05-810-001.

Applicants: UGI Energy Services.

Description: UGI Energy Services resubmits its application for market—based rates filed April 12, 2005 with modifications to include the suggested change in status language proposed by FERC and a request for a shortened notice period.

Filed Date: 06/03/2005.

Accession Number: 20050609-0323.

Comment Date: 5 p.m. Eastern Time on Friday, June 17, 2005.

Docket Numbers: ER99-2817-004 and ER01-574-001.

Applicants: UGI Development Company and Hunlock Creek Energy Ventures.

Description: UGI Development Company and Hunlock Creek Energy Ventures submit an errata to UGI Development Company's Triennial Review filed on 4/12/05 and a request for a shortened notice period.

Filed Date: 06/03/2005.

Accession Number: 20050609-0112.

Comment Date: 5 p.m. Eastern Time on Friday, June 17, 2005.

Docket Numbers: ER05-1090-000.

Applicants: Power Choice, Inc.

Description: Power Choice Inc requests cancellation of its market-based tariff and requests waiver of the required 60-day notice period under 18 CFR 35.11 Filed Date: 06/02/2005.

Accession Number: 20050609-0324.

Comment Date: 5 p.m. Eastern Time on Thursday, June 23, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlinSupport@ferc.gov or call (866) 208-3676 (toll free). For TTY, call (202) 502-8659.

Linda Mitry,
Deputy Secretary.

[FR Doc. E5-3181 Filed 6-17-05; 8:45 am]

BILLING CODE 6717-01-P